DEPARTMENT OF TRANSPORTATION

National Highway Traffic Safety Administration

[Docket No. NHTSA-2006-25981; Notice 1]

Michelin North America, Inc., Receipt of Petition for Decision of Inconsequential Noncompliance

Michelin North America, Inc. (Michelin) has determined that certain tires that it imported in 2005 and 2006 do not comply with S6.5(d) of 49 CFR 571.119, Federal Motor Vehicle Safety Standard (FMVSS) No. 119, “New pneumatic tires for vehicles other than passenger cars.” Michelin has filed an appropriate report pursuant to 49 CFR part 573, “Defect and Noncompliance Reports.”

Pursuant to 49 U.S.C. 30118(d) and 30120(h), Michelin has petitioned for an exemption from the notification and remedy requirements of 49 U.S.C. Chapter 301 on the basis that this noncompliance is inconsequential to motor vehicle safety.

This notice of receipt of Michelin's petition is published under 49 U.S.C. 30118 and 30120 and does not represent any agency decision or other exercise of judgment concerning the merits of the petition.

Affected are a total of approximately 6,189 11R24.5 Load Range H BFGoodrich DR444 tires produced between November 20, 2005 and July 22, 2006. S6.5(d) of FMVSS No. 119 requires that each tire shall be marked on each sidewall with “[t]he maximum load rating and corresponding inflation pressure of the tire * * *.” The sidewall labeling on the subject tires incorrectly states the maximum dual load carrying capacity. They are incorrectly marked “Max load dual 3075 kg (6780 lbs) at 830 kPa (120 psi).” They should have been marked “Max load dual 3000 kg (6610 lbs) at 830 kPa (120 psi).” The tires are correctly marked for the maximum single load carrying capacity. Michelin has corrected the problem that caused these errors so that they will not be repeated in future production.

Michelin believes that the noncompliance is inconsequential to motor vehicle safety and that no corrective action is warranted. Michelin states,

When both single and dual loads are marked on the tire (as is the case here), FMVSS No. 119 requires that performance compliance testing be done based on the single (higher, more punishing) tire load. Therefore, an incorrect maximum dual load marking is inconsequential and [the] tire meets all FMVSS No. 119 minimum performance requirements.

Michelin cites NHTSA's grant of a previous inconsequential noncompliance petition it submitted for a similar maximum dual load noncompliance (69 FR 62512), where NHTSA stated,

The agency also agrees that safety will not be compromised for the tires marked with the incorrect “max load dual” since the more severe “max load single” load is marked correctly. In addition, these tires meet or exceed all of the performance requirements of FMVSS No. 119, and all other informational markings as required by FMVSS No. 119 are present.

Michelin says that the tires meet or exceed all other FMVSS No. 119 requirements.

Interested persons are invited to submit written data, views, and arguments on this petition. Comments must refer to the docket and notice number cited at the beginning of this notice and be submitted by any of the following methods. Mail: Docket Management Facility, U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: Go to http://www.regulations.gov. Follow the online instructions for submitting comments.

The petition, supporting materials, and all comments received before the close of business on the closing date indicated below will be filed and will be considered. All comments and supporting materials received after the closing date will also be filed and will be considered to the extent possible. When the petition is granted or denied, notice of the decision will be published in the Federal Register pursuant to the authority indicated below.

Comment closing date: November 13, 2006.

Authority: 49 U.S.C. 30118, 30120: delegations of authority at CFR 1.50 and 501.8.

Issued on: October 5, 2006.
Daniel C. Smith,
Associate Administrator for Enforcement.

[FR Doc. E6-16836 Filed 10-11-06; 8:45 am]

BILLING CODE 4910-59-P